DEPARTMENT OF THE INTERIOR

Fish and Wildlife Service

[FWS-HQ-FAC-2019-N173]

Sport Fishing and Boating Partnership Council; Call for Nominations

AGENCY: Fish and Wildlife Service, Interior.

ACTION: Call for nominations.

SUMMARY: The U.S. Department of the Interior is seeking nominations for individuals to be considered for membership on the Sport Fishing and Boating Partnership Council (Council).

DATES: Nominations can be submitted by email or mail. Email submissions must be dated March 6, 2020 and mailed submissions must be postmarked.

ADDRESSES: Please address your nomination letters to Ms. Aurelia Skipwith, Director, U.S. Fish and Wildlife Service. Submit your nomination letters via email, U.S. mail, or hand-delivery to Linda Friar, Designated Federal Officer; Sport Fishing and Boating Partnership Council; U.S. Fish and Wildlife Service; 5275 Leesburg Pike, Mailstop 3C016A-FAC; Falls Church, VA 22041-3803, linda_friar@fws.gov.

FOR FURTHER INFORMATION CONTACT: Linda Friar, at the above address, via email at linda_friar@fws.gov, or by telephone at (703) 358-2056.

SUPPLEMENTARY INFORMATION: The Council advises the Secretary, through the Director, U.S. Fish and Wildlife Service, on aquatic conservation endeavors that benefit recreational fishery resources and recreational boating and that encourage partnerships among industry, the public, and government. The Council conducts its operations in accordance with the provisions of the Federal Advisory Committee Act (5 U.S.C. App.). The Council functions solely as an advisory body. Four current members' terms expire April 1, 2020.

Council Duties

The Council's duties and responsibilities, where applicable, are as follows:

a. Providing advice that will assist the Secretary in carrying out the authorities of the Fish and Wildlife Act of 1956.

b. Fulfilling responsibilities established by Executive Order 12962:

(1) Monitoring specific Federal activities affecting aquatic systems and the recreational fisheries they support.

(2) Reviewing and evaluating the relation of Federal policies and activities to the status and conditions of recreational fishery resources.

c. Recommending policies or programs to increase public awareness and support for the Sport Fish Restoration and Boating Trust Fund.

d. Recommending policies or programs that foster conservation and ethics in recreational fishing and boating.

e. Recommending policies or programs to stimulate angler and boater participation in the conservation and restoration of aquatic resources through outreach and education.

f. Advising how the Secretary can foster communication and coordination among government, industry, anglers, boaters, and the public.

g. Providing recommendations for implementation of Secretary's Order 3347—Conservation Stewardship and Outdoor Recreation, and Secretary's Order 3356—Hunting, Fishing, Recreational Shooting, and Wildlife Conservation Opportunities and Coordination with States, Tribes, and Territories.

h. Providing recommendations for implementation of regulatory reform initiatives and policies specified in section 2 of Executive Order 13777—Reducing Regulation and Controlling Regulatory Costs; Executive Order 12866—Regulatory Planning and Review, as amended; and section 6 of Executive Order 13563—Improving Regulation and Regulatory Review.

Council Makeup

The Director of the U.S. Fish and Wildlife Service, and the President of the Association of Fish and Wildlife Agencies are ex officio members. The Council may consist of no more than 18 members and up to 16 alternates appointed by the Secretary for a term not to exceed 3 years. Appointees will be selected from among, but not limited to, the following national interest groups:

a. State fish and wildlife resource management agencies (two members—one a Director of a coastal State, and one a Director of an inland State);

b. Saltwater and freshwater recreational fishing organizations;

c. Recreational boating organizations;

d. Recreational fishing and boating industries;

e. Recreational fishery resources conservation organizations;

f. Tribal resource management organizations;

g. Aquatic resource outreach and education organizations; and

h. The tourism industry.

Nomination Method and Eligibility

Members will be senior-level representatives of recreational fishing, boating, and aquatic resources conservation organizations, and must have the ability to represent their designated constituencies. Nominations should include a resume that provides contact information and a description of the nominee's qualifications that would enable the Department of the Interior to make an informed decision regarding the candidate's suitability to serve on the Council. Current members whose terms are expiring April 1, 2020 are eligible to be renominated and reappointed to the Council. Any nominee may also submit the name and resume of a person on their organization's staff who they would like to be considered as their alternate.

Public Disclosure: Before including your address, phone number, email address, or other personal identifying information in your nomination, you should be aware that your entire nomination—including your personal identifying information—may be made publicly available at any time. While you can ask us to withhold your personal identifying information from public review, we cannot guarantee that we will be able to do so.

Authority: 5 U.S.C. Appendix 2.

David Hoskins,
Assistant Director, Fish and Aquatic Conservation, USFWS.

[FR Doc. 2020-03020 Filed 2-13-20; 8:45 am]

BILLING CODE 4333-15-P